DEPARTMENT OF EDUCATION

National Assessment Governing Board Meeting

AGENCY: National Assessment Governing Board, Department of Education.

ACTION: Notice of open and closed hybrid meetings.

SUMMARY: This notice sets forth the agenda for the National Assessment Governing Board (hereafter referred to as Governing Board) meeting scheduled for November 18-19, 2021. This notice provides information about the meeting to members of the public who may be interested in attending and/or providing written comments related to the work of the Governing Board. Notice of this meeting is required under the Federal Advisory Committee Act (FACA).

ADDRESSES: In-person attendance for this meeting is for members and staff due to ED in-person meeting conference guidelines and COVID-19 social distancing requirements. Governing Board members and staff will meet at the Hilton Washington DC Capitol Hill, 525 New Jersey Ave. NW, Washington, DC 20001. Virtual attendance for all open sessions will be accessible to members of the public who register per the instructions provided in the Supplementary Information section of this notice.

FOR FURTHER INFORMATION CONTACT: Munira Mwalimu, Executive Officer/Designated Federal Official for the Governing Board, 800 North Capitol Street NW, Suite 825, Washington, DC 20002, telephone: (202) 357-6906, fax: (202) 357-6945, email: Munira.Mwalimu@ed.gov.

SUPPLEMENTARY INFORMATION: Statutory Authority and Function: The Governing Board is established under the National Assessment of Educational Progress Authorization Act, Title III of Public Law 107-279. Information on the Governing Board and its work can be found at www.nagb.gov.

The Governing Board formulates policy for the National Assessment of Educational Progress (NAEP) administered by the National Center for Education Statistics (NCES). The Governing Board's responsibilities include: (1) Selecting subject areas to be assessed; (2) developing assessment frameworks and specifications; (3) developing appropriate student achievement levels for each grade and subject tested; (4) developing standards and procedures for interstate and national comparisons; (5) improving the form and use of NAEP; (6) developing guidelines for reporting and disseminating results; and (7) releasing initial NAEP results to the public.

Standing Committee Meetings

The Governing Board's standing committees will meet to conduct regularly scheduled work planned for this Quarterly Board Meeting and any items undertaken by committees for consideration by the full Governing Board. (Please see committee meeting minutes for previous meetings, available at https://www.nagb.gov/governing-board/quarterly-board-meetings.html). Committee meeting agendas will be posted on the Governing Board's website www.nagb.gov five business days prior to the meetings. Online registration for virtual access to the open sessions of the Governing Board and committee meetings will also be posted at www.nagb.gov five working days prior to each meeting.

Thursday, November 4, 2021

Reporting and Dissemination Committee

3:30 p.m.-5:00 p.m. (Open Session)

Wednesday, November 10, 2021

Assessment Development Committee

3:15 p.m.-4:30 p.m. (Open Session)

Friday, November 12, 2021

Joint Meeting: Reporting and Dissemination Committee and Assessment Development Committee

2:30 p.m.-3:30 p.m. (Open Session)

Monday, November 15, 2021

Nominations Committee

5:00 p.m.-6:00 p.m. (Closed Session)

Tuesday, November 16, 2021

Committee on Standards, Design & Methodology

2:00 p.m.-4:00 p.m. (Closed Session)

Thursday, November 18, 2021

Executive Committee Meeting

9:45 a.m.-10:15 a.m. (Open Session)

10:20 a.m.-11:20 a.m. (Closed Session)

11:20 a.m.-11:30 a.m. (Open Session)

Quarterly Governing Board Meeting

The plenary sessions of the November 18-19, 2021 quarterly meeting of the Governing Board will be held on the following dates and times:

Thursday, November 18, 2021: Open Meeting: 12:45 p.m.-5:30 p.m.

Friday, November 19, 2021: Closed Meeting: 9:00 a.m.-11:00 a.m.; Open Meeting: 11:15 a.m.-4:00 p.m.

November 18, 2021: Open Meetings

On Thursday, November 18, 2021, the Governing Board will meet in open session from 12:45 p.m. to 5:30 p.m.

From 12:45 p.m. to 1:00 p.m., Chair, Beverly Perdue will welcome members, review, and approve the November 18-19, 2021 quarterly Governing Board meeting agenda, and approve minutes from the August 5-6, 2021 quarterly Governing Board meeting.

From 1:00 p.m. to 1:30 p.m. new and reappointed members will offer remarks. Next, Lesley Muldoon, Executive Director of the Governing Board, will update members on ongoing work from 1:30 p.m. to 1:45 p.m. The Board will discuss and take action on the NAEP 2026 Reading Assessment and Item Specifications from 1:45 p.m. to 2:15 p.m.

From 2:15 p.m. to 3:30 p.m. the Board will discuss potential changes to the NAEP Framework update process. From 3:30 p.m. to 4:00 p.m., Secretary Cardona will administer the oath of office to new members and provide remarks.

Thereafter the Board will take a 15 minute break and reconvene from 4:15 p.m. to 5:30 p.m. to discuss initial public comment on the current NAEP Science Framework, after which the November 18, 2021 session will adjourn.

November 19, 2021 Meeting

On Friday, November 19, 2021, the Governing Board meeting will convene in closed session from 9:00 a.m. to 11:00 a.m. to receive a briefing from Peggy Carr, Commissioner of NCES and from Lesley Muldoon on the NAEP Budget and Assessment Schedule. The budget briefing and Governing Board discussions may affect current and future NAEP contracts and must be kept confidential to maintain the integrity of the federal acquisition process. Public disclosure of this confidential information would impede implementation of the NAEP assessment program if conducted in open session. Such matters are protected by exemption 9(B) of § 552b(c) of Title 5 of the United States Code.

The Governing Board then will take a break from 11:00 a.m. to 11:15 a.m. The Board will convene in open session from 11:15 a.m. to 12:15 p.m. to discuss the Governing Board's plans for implementing Year 2 of the Strategic Vision. From 12:15 p.m. to 12:45 p.m. members will engage in open discussion. Thereafter, the Board will engage in a working lunch to receive a briefing from Ray Hart, Executive Director of the Council of the Great City Schools, who will present on the recent Council report, Mirrors or Windows. This report uses NAEP data to understand how large urban districts overcome poverty and other barriers to foster positive educational outcomes for students. From 2:15 p.m. to 4:00 p.m. the Board will receive a briefing and discuss planned and potential innovations for NAEP, led by NCES staff and invited experts. The November 19 session of the Governing Board meeting will adjourn at 4:00 p.m.

The Quarterly Board meeting and committee meeting agendas, together with meeting materials, will be posted on the Governing Board's website at www.nagb.gov no later than five working days prior to each meeting.

Virtual attendance for all open sessions will be accessible to members of the public via online registration only at www.nagb.gov 5 business days prior to each meeting.

Access to Records of the Meeting: Pursuant to FACA requirements, the public may also inspect the meeting materials at www.nagb.gov five business days prior to each meeting. The official verbatim transcripts of the public meeting sessions will be available for public inspection no later than 30 calendar days following each meeting.

Reasonable Accommodations: The meeting is accessible to individuals with disabilities. If you will need an auxiliary aid or service to participate in the meeting (e.g., interpreting service, assistive listening device, or materials in an alternate format), notify the contact person listed in this notice no later than ten working days prior to each meeting.

Written Comment: Written comments related to the work of the Governing Board may be submitted electronically or in hard copy to the attention of the Executive Officer/Designated Federal Official (see contact information noted above).

Public Participation: Members of the public may virtually attend all open sessions of the standing committees and full Governing Board meetings via advance registration. A link to the registration page will be posted on www.nagb.gov five business days prior to each meeting date.

Electronic Access to This Document: The official version of this document is the document published in the Federal Register. Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the Adobe website. You may also access documents of the Department published in the Federal Register by using the article search feature at: www.federalregister.gov. Specifically, through the advanced search feature at this site, you can limit your search to documents published by the Department.

Authority: Pub. L. 107-279, Title III—National Assessment of Educational Progress § 301.

Lesley Muldoon,
Executive Director, National Assessment Governing Board (NAGB), U. S. Department of Education.

[FR Doc. 2021-23880 Filed 11-1-21; 8:45 am]

BILLING CODE 4000-01-P